NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Dates: October 19, 2005, 8:30 a.m.-5 p.m. and October 20, 2005, 8:30 a.m.-3:30 p.m.

Place: Stafford I, Room 1235, National Science Foundation, 4201 Wilson Blvd., Arlington, VA 22230.

Type of Meeting: Open.

Contact Person: Dr. David Campbell, Directorate for Education and Human Resources, National Science Foundation, Suite 885, 4201 Wilson Blvd., Arlington, Virginia 22230. Phone (703) 292-5093.

Minutes: May be obtained from the contact person listed above.

Purpose of Meeting: To provide advice, recommendations, and oversight concerning support for environmental research and education.

Agenda: October 19—Update on recent NSF environmental activities; Report on NSF-DOE Water workshop; Report on BE PI meeting; Discussion of AC-ERE topics of interest: AC-ERE task group meetings.

October 20—AC-ERE task group reports; Meeting with the Director; Presentation on “environmental curricula at universities.”

Dated: September 13, 2005.
Susanne Bolton,
Committee Management Officer.

[FR Doc. 05-18463 Filed 9-15-05; 8:45 am]

BILLING CODE 7555-01-M